DEPARTMENT OF LABOR

Employment and Training Administration

[TA-W-53,285]

Mastercraft Fabrics, LLC; Joan Fabrics Corporation; Oakland Plant; Including Leased Workers of Coxe Personnel Services and Personnel Services Unlimited; Spindale, NC; Amended Certification Regarding Eligibility To Apply for Worker Adjustment Assistance

In accordance with section 223 of the Trade Act of 1974 (19 U.S.C. 2273) the Department of Labor issued a Certification of Eligibility to Apply for Worker Adjustment Assistance on November 10, 2003, applicable to workers of Mastercraft fabrics, LLC, Oakland Plant, including leased workers of Coxe Personnel Services and Personnel Services Unlimited, Spindale, North Carolina. The notice was published in the Federal Register on December 29, 2003 (68 FR 74978).

At the request of the company, the Department reviewed the certification for workers of the subject firm. The workers are engaged in the production of jacquard furniture fabric.

New information shows that Joan Fabrics Corporation is the parent firm of Mastercraft Fabrics, LLC, Oakland Plant. Workers separated from employment at the subject firm had their wages reported under a separate unemployment insurance (UI) tax accounts for Joan Fabrics Corporation.

Accordingly, the Department is amending the certification to properly reflect this matter.

The intent of the Department's certification is to include all workers of Mastercraft Fabrics, LLC, Joan Fabrics, Corporation, Oakland Plant, including leased workers of Coxe Personnel Services and Personnel Services Unlimited, Spindale, North Carolina who were adversely affected by increased imports of jacquard furniture fabrics.

The amended notice applicable to TA-W-53,285 is hereby issued as follows:

All workers of Mastercraft Fabrics, LLC, Joan Fabrics Corporation, Oakland Plant, including leased workers of Coxe Personnel Services and Personnel Services Unlimited producing jacquard furniture fabrics at Mastercraft Fabrics, LLC, Joan Fabrics Corporation, Oakland Plant, Spindale, North Carolina, who became totally or partially separated from employment on or after September 20, 2002, through November 10, 2005, are eligible to apply for adjustment assistance under Section 223 of the Trade Act of 1974.

Signed in Washington, DC, this 16th day of June 2004.
Linda G. Poole,
Certifying Officer, Division of Trade Adjustment Assistance.

[FR Doc. 04-14790 Filed 6-29-04; 8:45 am]

BILLING CODE 4510-30-P